Title 3—

The President

Presidential Determination No. 2000-25 of June 29, 2000

U.S. Contribution to the Korean Peninsula Energy Development Organization (KEDO): Certification and Waiver

Memorandum for the Secretary of State

Pursuant to section 576(c) of the Foreign Operations, Export Financing, and Related Programs Appropriations Act, 2000, as enacted in Public Law 106-113, (the “Act”), I hereby certify that:

(1)

the effort to can and safely store all spent fuel from North Korea's graphite-moderated nuclear reactors has been successfully concluded;

(2)

North Korea is complying with its obligations under the agreement regarding access to suspect underground construction; and

(3)

the United States has made and is continuing to make significant progress on eliminating the North Korean ballistic missile threat, including further missile tests and its ballistic missile exports.

Pursuant to the authority vested in me by section 576(d) of the Act, I hereby determine that it is vital to the national security interests of the United States to furnish up to $20 million in funds made available under the heading “Nonproliferation, Anti-terrorism, Demining and Related Programs” of that Act, for assistance for KEDO and therefore I hereby waive the requirement in section 576(c)(3) to certify that: North Korea has terminated its nuclear weapons program, including all efforts to acquire, develop, test, produce, or deploy such weapons.

You are hereby authorized and directed to report this certification and wavier to the Congress and to arrange for its publication in the Federal Register.

wj

THE WHITE HOUSE,

Washington, June 29, 2000.

[FR Doc. 00-17471

Filed 7-7-00; 8:45 am]

Billing code 4710-10-M